SECURITIES AND EXCHANGE COMMISSION

[Release No. 34-43066A; File No. SR-MSRB-00-06]

Self-Regulatory Organizations; Notice of Filing of Proposed Rule Change by the Municipal Securities Rulemaking Board Relating to Municipal Fund Securities; Corrections

August 4, 2000.

In FR Document 00-19448, beginning on page 47530 for Wednesday, August 2, 2000, on page 47531, Rule D-12 was incorrectly stated. This provision should read as follows:

“Rule D-12. “Municipal Fund Security”

The term “municipal fund security” shall mean a municipal security issued by an issuer that, but for the application of Section 2(b) of the Investment Company Act of 1940, would constitute an investment company within the meaning of Section 3 of the Investment Company Act of 1940.”

On page 47532, Rule G-8(g)(i) was incorrectly stated. This provision should read as follows:

“(g) Transactions in Municipal Fund Securities.

(i) Books and Records Maintained by Transfer Agents. Books and records required to be maintained by a broker, dealer or municipal securities dealer under this rule solely with respect to transactions in municipal fund securities may be maintained by a transfer agent registered under Section 17A(c)(2) of the Act used by such broker, dealer or municipal securities dealer in connection with such transactions; provided that such broker, dealer or municipal securities dealer shall remain responsible for the accurate maintenance and preservation of such books and records.”

On page 47533, Rule G-15(a)(i)(A)(7)(c) was incorrectly stated and should read as follows:

“(c) Municipal fund securities. For municipal fund securities, the purchase price, exclusive of commission, of each share or unit and the number of shares or units to be delivered;”

On page 47534, Rule G-15(a)(viii)(D) was incorrectly stated and should read as follows:

“(D) such customer is provided with prior notification in writing disclosing the intention to send the written information referred to in subparagraph (B) of this paragraph (viii) on a periodic basis in lieu of an immediate confirmation for each transaction; and”

On page 47534, Rule G-15(a)(viii)(E)(3) was incorrectly stated and should read as follows:

“(3) the customer is a natural person who participates in a periodic municipal fund security plan (other than a plan described in subparagraph (C) of this paragraph (viii)) or a non-periodic municipal fund security program and the issuer has consented in writing to the use by the broker, dealer or municipal securities dealer of the periodic written information referred to in subparagraph (B) of this paragraph (viii) in lieu of an immediate confirmation for each transaction with each customer participating in such plan or program.”

On page 47535, Rule G-32(a)(i)(A) was incorrectly stated and should read as follows:

“(A) if a customer who participates in a period municipal fund security plan or a non-periodic municipal fund security program has previously received a copy of the official statement in final form in connection with the purchase of municipal fund securities under such plan or program, a broker, dealer or municipal securities dealer may sell additional shares or units of the municipal fund securities under such plan or program to the customer if such broker, dealer or municipal securities dealer sends to the customer a copy of any new, supplemented, amended or “stickered” official statement in final form, by first class mail or other equally promptly means, promptly upon receipt thereof; provided that, if the broker, dealer or municipal securities dealer sends a supplement, amendment or sticker without including the remaining portions of the official statement in final form, such broker, dealer or municipal securities dealer includes a written statement describing which documents constitute the complete official statement in final form and stating that the complete official statement in final form is available upon request; or”

On page 47538, the first sentence of the second paragraph in column 2 was incorrectly stated. This sentence should read as follows:

“Rule A-13—Assessments. Proposed Rule A-13 exempts the sale of municipal fund securities from the underwriting assessment imposed under section (b) thereof because the continuous nature of offerings in municipal fund securities, the predetermined and automatic nature of most customer investments and the heightened potential that underwriting assessments could create significant financial burdens on issuers to their customers' detriment justify exempting municipal fund securities from the underwriting assessment.”

On page 47550, the second to the last sentence in column 3 was incorrectly stated. This sentence should read as follows:

“All submissions should refer to the File No. SR-MSRB-00-06 and should be submitted by August 23, 2000.”

Margaret H. McFarland,
Deputy Secretary.

[FR Doc. 00-20412 Filed 8-10-00; 8:45 am]

BILLING CODE 8010-01-M